DEPARTMENT OF COMMERCE

National Oceanic and Atmospheric Administration

RIN 0648-XI74

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Northeast Region, NMFS has made a preliminary determination that the subject exempted fishing permit (EFP) application contains all the required information and warrants further consideration. Therefore, NMFS announces that the Assistant Regional Administrator proposes to recommend that an EFP be issued that would allow one commercial fishing vessel to conduct fishing operations that are otherwise restricted by the regulations governing the fisheries of the Northeastern United States. The EFP, which would enable the applicants to investigate the bycatch variability of different groundfish trawl codend configurations with a small mesh cover, would allow for exemptions for one vessel from the Northeast (NE) Multispecies and Monkfish Fishery Management Programs, as follows: NE multispecies Gulf of Maine (GOM) minimum mesh size. The EFP would also allow temporary exemptions from the following regulations, per the stipulations detailed in this document: NE multispecies minimum fish sizes; NE multispecies possession restrictions; monkfish minimum fish sizes; and monkfish possession restrictions.

Regulations under the Magnuson-Stevens Fishery Conservation and Management Act require publication of this notification to provide interested parties the opportunity to comment on applications for proposed EFPs.

DATES: Comments must be received on or before July 16, 2008.

ADDRESSES: Written comments should be sent to Patricia A. Kurkul, Regional Administrator, NMFS, Northeast Regional Office, 1 Blackburn Drive, Gloucester, MA 01930. Mark the outside of the envelope “Comments on the Codend Small-Mesh Study.” Comments may also be sent via facsimile (fax) to (978) 281-9135, or submitted via e-mail to the following address: DA8-146@noaa.gov.

FOR FURTHER INFORMATION CONTACT: Edward Stern, Fishery Management Specialist, (978) 281-9177, fax (978) 281-9135.

SUPPLEMENTARY INFORMATION: A complete application for an EFP for this project was submitted on June 3, 2008, by Steve Eayrs of the Gulf of Maine Research Institute (GMRI) for the F/V Skipper (Permit #250573). This project is funded by Jane's Trust and the Maine (ME) Sea Grant Program.

The primary goal of this EFP is to determine the optimal trawl configuration to reduce undersized bycatch. At present, fishermen from the Port Clyde Draggermen's Association (PCDA) voluntarily remove the chafing net from their groundfish trawls in the belief that the chafing net masks codend meshes and increases the retention of undersized bycatch. This EFP will help quantify the effectiveness of this modification for three common codend mesh sizes: 6.5-inch (16.5-cm) square; 6.5-inch (16.5-cm) diamond; and 7-inch (17.8-cm) diamond mesh.

This EFP would be issued to GMRI and Captain Glen Libby of the F/V Skipper to conduct 15 at-sea days of experimental fishing in an area north of the Cashes Ledge Habitat Closure Area and east of the Jeffery's Bank Habitat Closure Area (see Table 1). Fishing would not overlap with any GOM Rolling Closures. As a condition of this EFP, this vessel would complete no more than 78 tows, fishing 6 tows per day, each 1 hour in duration. Each tow would test one of the four possible trawl configurations: 6.5-inch (16.5-cm) diamond, with and without chafing gear; 6.5-inch (16.5-cm) square, without chafing gear; and 7-inch (17.8-cm) diamond, without chafing gear. A small-mesh 1.75 to 2.25-inch (4.4 to 5.7-cm) cover would be installed around the codend of each of these nets, supported by a hoop to prevent direct masking of the codend meshes. This small-mesh cover would provide information to determine which mesh configuration effects the greatest reduction in undersized bycatch.

Table 1: Corner Coordinates for Experimental Fishing Area by F/V Skipper
Point | Latitude | Longitude
1 | 44°00′ N | 68°50′ W
2 | 44°00′ N | 69°40′ W
3 | 43°20′ N | 69°40′ W
4 | 43°20′ N | 68°50′ W
5 | 44°00′ N | 68°50′ W

The data collection would include 48 complete tows, with additional tows (not to exceed 30), during which a camera would be installed to observe codend geometry and fish behavior. The camera system could upset the geometry and performance of the codend, so the researchers opted not to install the camera during any of the primary tows. The additional 7 days and 30 tows for camera work would also allow flexibility for any potential gear, weather, or other unforeseen problems during the first 8 days of testing. The researchers intend to complete this project before October 1, 2008.

The applicants have asked for an exemption from the minimum GOM regulated mesh size specified at 50 CFR 648.80(a)(3)(i), so that they may install a small-mesh cover net around the codend to sample the variability in bycatch released from each of the four codend configurations. The applicants have also asked for temporary exemptions from the following regulations: NE multispecies minimum fish sizes (§ 648.83); NE multispecies possession restrictions (§ 648.86), monkfish minimum fish sizes(§ 648.93); and monkfish possession restrictions (§ 648.94). These exemptions are necessary to allow sampling of undersized fish and fish in excess of the possession limit; however, these exemptions would not permit the landing of fish outside of regular A days-at-sea (DAS) possession limits. These exemptions are only for the time period when trained technicians or crew are measuring, weighing, or sampling fish that would otherwise be immediately discarded.

During the 15 at-sea days of comparative fishing trials, the F/V Skipper would use A DAS and would be subject to all day and trip possession limits, with the exemptions listed above. All fish caught would be weighed, and as many fish as possible would be measured. As a condition of this EFP, all undersized fish or fish that cannot legally be landed (e.g., in excess of possession limits) would be returned to the sea as quickly as practicable after measurement. The overall catch estimates expected for the remainder of this project under this EFP can be found in Table 2. The applicants anticipate a total harvest of 19,500 lb (8,845 kg), and an additional 6,283 lb (2,850 kg) of discards. The estimated GOM cod catch per day for the proposed number of DAS during this EFP would be 27 percent of the current daily possession limit of 800 lb (363 kg). All legal-sized fish, within the possession limit, would be sold.

Table 2: Estimated Catch and Discards by Species lb (kg)
Species | Harvest | Discards
Haddock | 3,250(1,474) | 1,083(491)
Cod | 3,250(1,474) | 1,083(491)
Grey Sole | 3,250(1,474) | 1,083(491)
American Plaice | 3,250(1,474) | 1,083(491)
Monkfish | 3,250(1,474) | 1,083(491)
Pollock | 1,300(590) | 433(196)
Hake & other | 1,950(885) | 650(295)
Skate sp. | 0 | 1,300(590)
Dogfish | 0 | 1,300(590)
Undersized and unregulated sp. | 0 | 2,600(1,179)

The applicants may request minor modifications and extensions to the EFP throughout the course of research. EFP modifications and extensions may be granted without further public notice if they are deemed essential to facilitate completion of the proposed research and result in only a minimal change in the scope or impacts of the initially approved EFP request.

In accordance with NOAA Administrative Order 216-6, a Categorical Exclusion or other appropriate NEPA document would be completed prior to the issuance of the EFP.

Further review and consultation may be necessary before a final determination is made to issue the EFP. After publication of this document in the Federal Register, the EFP, if approved, may become effective following the public comment period.

Authority: 16 U.S.C. 1801 et seq.

Dated: June 25, 2008.
Emily H. Menashes
Acting Director, Office of Sustainable Fisheries, National Marine Fisheries Service.

[FR Doc. E8-14834 Filed 6-30-08; 8:45 am]

BILLING CODE 3510-22-S